DEPARTMENT OF COMMERCE

National Oceanic and Atmospheric Administration

50 CFR Part 300

[Docket No. 130717632-4285-02]

RIN 0648-XE902

International Fisheries; Pacific Tuna Fisheries; 2016 Bigeye Tuna Longline Fishery Reopening in the Eastern Pacific Ocean

AGENCY: National Marine Fisheries Service (NMFS), National Oceanic and Atmospheric Administration (NOAA), Commerce.

ACTION: Temporary rule; fishery reopening.

SUMMARY: NMFS is temporarily reopening the U.S. pelagic longline fishery for bigeye tuna for vessels over 24 meters in overall length in the eastern Pacific Ocean (EPO) because part of the 500 metric ton (mt) catch limit remains available after NMFS closed the fishery on July 25, 2016. This action will allow U.S. vessels to access the remainder of the catch limit, which was established by the Inter-American Tropical Tuna Commission (IATTC) in Resolution C-13-01.

DATES: The reopening is effective October 4, 2016 until the effective date of a notice of closure which will be published in the Federal Register, or through 11:59 p.m. local time December 31, 2016, whichever comes first.

FOR FURTHER INFORMATION CONTACT: Taylor Debevec, NMFS West Coast Region, 562-980-4066.

SUPPLEMENTARY INFORMATION: The United States is a member of the IATTC, which was established under the Convention for the Establishment of an Inter-American Tropical Tuna Commission signed in 1949 (Convention). The Convention provides an international agreement to ensure the effective international conservation and management of highly migratory species of fish in the IATTC Convention Area. The IATTC Convention Area, as amended by the Antigua Convention, includes the waters of the EPO bounded by the coast of the Americas, the 50° N. and 50° S. parallels, and the 150° W. meridian.

Pelagic longline fishing in the EPO is managed, in part, under the Tuna Conventions Act as amended (Act), 16 U.S.C. 951-962. Under the Act, NMFS must publish regulations to carry out recommendations of the IATTC that have been approved by the Department of State (DOS). In 2013, the IATTC adopted Resolution C-13-01, which establishes an annual catch limit of bigeye tuna for longline vessels over 24 meters. For calendar years 2014, 2015, and 2016, the catch of bigeye tuna by longline gear in the IATTC Convention Area by fishing vessels of the United States that are over 24 meters in overall length is limited to 500 mt per year. With the approval of the DOS, NMFS implemented this catch limit by notice-and-comment rulemaking under the Act (79 FR 19487, April 9, 2014, and codified at 50 CFR 300.25).

NMFS, through monitoring retained catches of bigeye tuna noted in logbook data submitted by vessel captains and other available information from the longline fisheries in the IATTC Convention Area, determined that the 2016 catch limit would be reached by July 25, 2016, and published a notice in the Federal Register announcing the closure of the fishery (81 FR 46614, July 18, 2016). However, after reviewing the catch data, NMFS determined that approximately 250 mt of the catch limit remains available. Therefore, NMFS is publishing this notice to reopen the fishery so that the remainder of the catch limit may be caught. All fishing for the remaining catch limit must be done in accordance with regulations at 50 CFR 300.25. NMFS will continue to monitor bigeye tuna catch and publish a notice of closure if the catch limit will be reached before the catch limit regulations expire on December 31, 2016. Notice of a fishery closure will be published 7 calendar days in advance of the effective date.

Classification

NMFS has determined there is good cause to waive prior notice and opportunity for public comment pursuant to 5 U.S.C. 553(b)(B). Compliance with the notice and comment requirement would be impracticable and contrary to the public interest because this action is simply a correction to a premature closure and is of benefit to fishermen since they cannot currently access the fishery. Moreover, NMFS previously solicited and considered public comments on the rule that established the catch limit (79 FR 19487, April 9, 2014). For the same reasons, NMFS has also determined there is good cause to waive the requirement for a 30-day delay in effectiveness under 5 U.S.C. 553(d)(3).

This action is required by § 300.25(b) and is exempt from review under Executive Order 12866.

Authority: 16 U.S.C. 951 et seq.

Dated: October 4, 2016
Emily H. Menashes,
Acting Director, Office of Sustainable Fisheries, National Marine Fisheries Service.

[FR Doc. 2016-24347 Filed 10-4-16; 4:15 pm]

BILLING CODE 3510-22-P